DEPARTMENT OF THE TREASURY

Office of the Secretary

31 CFR Part 1

RIN 3505-AC35

Privacy Act: Implementation

AGENCY: Office of the Secretary, Treasury.

ACTION: Final rule.

SUMMARY: In this final rule, the Department of the Treasury makes technical corrections to an appendix to its regulations regarding disclosure of records. These amendments update the name of the former Bureau of Alcohol, Tobacco and Firearms to the Alcohol and Tobacco Tax and Trade Bureau, and also update the contact information for the Alcohol and Tobacco Tax and Trade Bureau and the procedures by which individuals may request disclosure of information under the Privacy Act. These amendments do not change the Department's interpretation of any regulation or the requirements of any recordkeeping provision.

DATES: Effective Date: October 7, 2011.

FOR FURTHER INFORMATION CONTACT: Karen Welch, Regulations and Rulings Division, Alcohol and Tobacco Tax and Trade Bureau, 1310 G Street, NW., Box 12, Washington, DC 20005; telephone 202-453-1039, ext. 046 or e-mail Karen.Welch@ttb.gov.

SUPPLEMENTARY INFORMATION: The Privacy Act of 1974, 5 U.S.C. 552a, pertains to the disclosure of information about individuals that is maintained by Federal government agencies. It requires Federal government agencies to make available records pertaining to an individual upon the request of that individual, and forbids Federal government agencies from disclosing records containing information about an individual without the individual's consent, subject to certain exceptions.

The regulations pertaining to the disclosure of records by the Department of the Treasury and its components are contained in 31 CFR part 1. The regulations implementing the Privacy Act are contained in 31 CFR part 1, subpart C, and set forth the procedures by which individuals may request notification of whether the Department of the Treasury maintains or has disclosed a record pertaining to them or may seek access to such records maintained in any nonexempt system of records. Subpart C is accompanied by appendix E, which describes the procedures applicable to each component of the Department of the Treasury. Individuals requesting records from a Treasury Department component under the Privacy Act must comply with the procedures detailed in the appropriate appendix.

Prior to January 24, 2003, the Bureau of Alcohol, Tobacco and Firearms was a component of the Department of the Treasury. Effective January 24, 2003, the Homeland Security Act of 2002 divided that Bureau into two new entities—the Alcohol and Tobacco Tax and Trade Bureau (TTB) in the Department of the Treasury, and the Bureau of Alcohol, Tobacco, Firearms and Explosives (ATF) in the Department of Justice. TTB, the Bureau that remained within the Department of the Treasury, is responsible for administering chapters 51 (relating to distilled spirits, wine, and beer) and 52 (relating to tobacco products and cigarette papers and tubes) of title 26 U.S.C., the Internal Revenue Code of 1986, as amended (IRC). TTB also administers sections 4181 and 4182 (relating to the excise tax on firearms and ammunition) of the IRC and title 27 of the U.S.C. (relating to alcohol).

As a result of the organizational change, information in appendix E to 31 CFR part 1, subpart C needs to be updated to reflect TTB's information and procedures. TTB's procedures regarding requests for disclosures under the Privacy Act should be set forth in appendix E to subpart C of 31 CFR part 1.

Therefore, the Department of the Treasury issues this document to amend the information contained in this appendix by: (1) Changing the name of the relevant agency from the “Bureau of Alcohol, Tobacco and Firearms” to the “Alcohol and Tobacco Tax and Trade Bureau;” (2) changing the listed mailing address to that of TTB; and (3) updating the Privacy Act-related procedures to allow individuals to make certain requests to TTB by fax as well as by postal mail.

In accordance with Executive Order 12866, it has been determined that this final rule is not a “significant regulatory action” and, therefore, does not require a Regulatory Impact Analysis. In addition, the regulation will not have a substantial direct effect on the States, on the relationship between the national Government and the States, or on the distribution of power and responsibilities among the various levels of government. Therefore, it has been determined that this final rule does not have federalism implications under Executive Order 13132.

Because no notice of proposed rulemaking is required, the provisions of the Regulatory Flexibility Act (5 U.S.C. 601 et seq.) do not apply.

These regulations are being published as a direct final rule because the amendments do not impose any new requirements on any member of the public and do not substantively alter the procedures relating to the way in which the Department of the Treasury or TTB currently handles Privacy Act obligations. These amendments are the most efficient means for the Department of the Treasury to correct outdated information concerning the means by which an individual may request disclosures of information from TTB. Accordingly, pursuant to 5 U.S.C. 553(b)(3)(B) and (d)(3), the Department of the Treasury finds good cause that prior notice and other public comment procedures with respect to this rule are impracticable and unnecessary and finds good cause for making this rule effective upon the date of its publication in the Federal Register.

List of Subjects in 31 CFR Part 1

Privacy.

Part 1, subpart C of title 31 of the Code of Federal Regulations, is amended as follows:

PART 1—[AMENDED]

1. The authority citation for part 1 continues to read as follows:

Authority: 5 U.S.C. 301 and 31 U.S.C. 321. Subpart A also issued under 5 U.S.C. 552, as amended. Subpart C also issued under 5 U.S.C. 552a, as amended.

2. Appendix E to Subpart C of part 1 is revised to read as follows:

Appendix E to Subpart C of Part 1—Alcohol and Tobacco Tax and Trade Bureau

1. In general. This appendix applies to the Alcohol and Tobacco Tax and Trade Bureau. It sets forth specific notification and access procedures with respect to particular systems of records, identifies the officers designated to make the initial determinations with respect to notification and access to records and accountings of disclosures of records. This appendix also sets forth the specific procedures for requesting amendment of records and identifies the officers designated to make the initial and appellate determinations with respect to requests for amendment of records. It identifies the officers designated to grant extensions of time on appeal, the officers with whom “Statements of Disagreement” may be filed, the officer designated to receive service of process and the addresses for delivery of requests, appeals, and service of process. In addition, it references the notice of systems of records and notices of the routine uses of the information in the system required by 5 U.S.C. 552a(3), (4) and (11) and published annually by the Office of the Federal Register in “Privacy Act Issuances”.

2. Requests for notification and access to records and accountings of disclosures. Initial determination under 31 CFR 1.26, whether to grant requests for notification and access to records and accountings of disclosures for the Alcohol and Tobacco Tax and Trade Bureau, will be made by the Director, Regulations and Rulings Division, or the delegate of such officer. Requests may be mailed or delivered in person to:

Privacy Act Request, Director, Regulations and Rulings Division, Alcohol and Tobacco Tax and Trade Bureau, 1310 G Street, NW., Box 12, Washington, DC 20005. Requests may also be faxed to 202-453-2331.

3. Requests for amendment of record. Initial determinations under 31 CFR 1.27 (a) through (d) with respect to requests to amend records maintained by the Alcohol and Tobacco Tax and Trade Bureau will be made by the Director, Regulations and Rulings Division. Requests for amendment of records may be mailed or delivered in person to:

Privacy Act Request, Director, Regulations and Rulings Division, Alcohol and Tobacco Tax and Trade Bureau, 1310 G Street NW., Box 12, Washington, DC 20005. Requests may also be faxed to 202-453-2331. The Bureau will process a faxed request when the request meets the identity verification requirements outlined in paragraph 4(a) of this Appendix.

4. Verification of identity. (a) In addition to the requirements specified in 31 CFR 1.26(d) of this appendix, each request for notification, access or amendment of records made by mail or fax shall contain the requesting individual's date and place of birth and a statement signed by the requester asserting his or her identity and stipulating that the requester understands that knowingly or willfully seeking or obtaining access to records about another person under false pretenses is a misdemeanor and punishable by a fine of up to $5,000 provided, that the Alcohol and Tobacco Tax and Trade Bureau may require a signed notarized statement verifying the identity of the requester.

(b) Individuals making requests in person will be required to exhibit at least two acceptable identifying documents such as employee identification cards, driver's license, medical cards, or other documents sufficient to verify the identity of the requester.

(c) The parent or guardian of a minor or a person judicially determined to be incompetent, shall in addition to establishing the identity of the minor or other person he represents as required in (a) and (b), establish his own parentage or guardianship by furnishing a copy of a birth certificate showing parentage (or other satisfactory documentation) or a court order establishing the guardianship.

5. Request for physical inspection of records. Upon determining that a request for the physical inspection of records is to be granted, the requester shall be notified in writing of the determination, and when and where the records may be inspected. The inspection of records will be made at the Alcohol and Tobacco Tax and Trade Bureau Field Office or other facility located nearest to the residence of the individual making the request. Such inspection shall be conducted during the regular business hours of the field office or other facility where the disclosure is made. A person of the requester's own choosing may accompany the requester provided the requester furnishes a written statement authorizing the disclosure of the requester's record in the accompanying person's presence. The record inspection will be made in the presence of a representative of the Bureau. Following the inspection of the record, the individual will acknowledge in writing the fact that he or she had an opportunity to inspect the requested record.

6. Requests for copies of records without prior physical inspection. Upon determining that an individual's request for copies of his or her records without prior physical inspection is to be granted, the requester shall be notified in writing of the determination, and the location and time for his or her receipt of the requested copies. The copies will be made available at the Alcohol and Tobacco Tax and Trade Bureau field office or other facility located nearest to the residence of the individual making the request, unless the individual requests that the documents be sent by mail. Copies shall be received by the requester during the regular business hours of the field office or other facility where the disclosure is made. Transfer of the copies to the individual shall be conditioned upon payment of copying costs and his presentation of at least two acceptable identifying documents such as employee identification cards, driver's license, medical cards, or other documents sufficient to verify the identity of the requester. Following the receipt of the copies in person, the individual will acknowledge receipt in writing.

7. Administrative appeal of initial determination refusing to amend record. Appellate determinations under 31 CFR 1.27(e) with respect to records of the Alcohol and Tobacco Tax and Trade Bureau, including extensions of time on appeal, will be made by the Administrator or the delegate of such officer. Appeals should be addressed to, or delivered in person to:

Privacy Act Amendment Appeal, Administrator, Alcohol and Tobacco Tax and Trade Bureau, 1310 G Street, NW., Box 12, Washington, DC 20005.

8. Statements of disagreement. “Statements of Disagreement” as described in 31 CFR 1.27(e)(4) shall be filed with the official signing the notification within 35 days of the date of such notification and should be limited to one page.

9. Service of process. Service of process will be received by the Administrator of the Alcohol and Tobacco Tax and Trade Bureau or the delegate of such official and shall be delivered to the following location:

Administrator, Alcohol and Tobacco Tax and Trade Bureau, 1310 G Street, NW., Box 12, Washington, DC 20005, Attention: Chief Counsel.

10. Annual notice of systems of records. The annual notice of systems of records is published by the Office of the Federal Register, as specified in 5 U.S.C. 552a(f). The publication is entitled “Privacy Act Issuances”. Any specific requirements for access, including identification requirements, in addition to the requirements set forth in 31 CFR 1.26 and 1.27 are indicated in the notice for each pertinent system.

Signed: September 12, 2011.
Veronica Marco,
Acting Deputy Assistant Secretary for Privacy, Transparency, and Records.

[FR Doc. 2011-25922 Filed 10-6-11; 8:45 am]

BILLING CODE 4830-01-P